DEPARTMENT OF THE INTERIOR

National Park Service

[NPS-WASO-NRNHL-DTS#-38604; PPWOCRADI0, PCU00RP14.R50000]

National Register of Historic Places; Notification of Pending Nominations and Related Actions

AGENCY: National Park Service, Interior.

ACTION: Notice.

SUMMARY: The National Park Service is soliciting electronic comments on the significance of properties nominated before August 17, 2024, for listing or related actions in the National Register of Historic Places.

DATES: Comments should be submitted electronically by September 13, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 17, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

ARIZONA

Maricopa County

The Olympus Condominiums, 6502 N Central Avenue, Phoenix, SG100010859

IOWA

Louisa County

Mellinger Memorial Library, 11 East Division Street, Morning Sun, SG100010863

LOUISIANA

Calcasieu Parish

Ryan Street Historic District, 601-800 Ryan St., 102-11O W Broad St., 311-345 Broad St., 800 Bilbo St., Lake Charles, SG100010868

MARYLAND

Baltimore Independent City

Old West Baltimore Historic District (Additional Documentation) (The Women's Suffrage Movement in Maryland MPS), Roughly bounded by North Ave., Dolphin St., Franklin St. and Fulton Ave., Baltimore (Independent City), MP04001374

Mount Vernon Place Historic District (Additional Documentation) (The Women's Suffrage Movement in Maryland MPS), Mount Vernon Pl. and Washington Pl., Baltimore (Independent City), MP71001037

Belvedere Hotel (Additional Documentation) (The Women's Suffrage Movement in Maryland MPS), 1 E Chase St., Baltimore (Independent City), MP77001529

Sharp Street Memorial United Methodist Church and Community House (Additional Documentation) (The Women's Suffrage Movement in Maryland MPS), 508-516 Dolphin St. & 1206-1210 Etting St., Baltimore (Independent City), MP82004749

Brown's Arcade (Additional Documentation) (The Women's Suffrage Movement in Maryland MPS), 322-328 N Charles St., Baltimore (Independent City), MP83002927

Fifth Regiment Armory (Additional Documentation) (Maryland National Guard Armories TR), 210-247 W Hoffman St., Baltimore (Independent City), MP85002671

Lyric Theatre (Additional Documentation) (The Women's Suffrage Movement in Maryland MPS), 124 W Mt. Royal Ave., Baltimore (Independent City), MP86000131

Goucher College Historic District, Old (Boundary Increase) (Additional Documentation) (The Women's Suffrage Movement in Maryland MPS), Roughly bounded by W 25th St., Guilford Ave., North Ave. and Howard St., Baltimore (Independent City), MP94001163

Washington County

Antietam Farm, 3724 Mills Road, Sharpsburg, SG100010858

OREGON

Benton County

Gorman, Hannah and Eliza, House (Additional Documentation) (Settlement-era Dwellings, Barns and Farm Groups of the Willamette Valley, Oregon MPS), 641 NW, 4th St., Corvallis, MP15000045

SOUTH CAROLINA

Greenville County

McBride's Office Supply, 832 Wade Hampton Blvd., Greenville, SG100010864

TEXAS

Wilson County

Beauregard Ranch, Address Restricted, Falls City vicinity, SG100010865

WISCONSIN

Door County

PRIDE Shipwreck (Schooner) (Great Lakes Shipwreck Sites of Wisconsin MPS), 250 feet north of the intersection of W Juniper St. and N Lancing Ave. in Sturgeon Bay, in the waters of Sturgeon Bay, Sturgeon Bay, MP100010860

Authority: Section 60.13 of 36 CFR part 60.

Sherry A. Frear,
Chief, National Register of Historic Places/National Historic Landmarks Program.

[FR Doc. 2024-19409 Filed 8-28-24; 8:45 am]

BILLING CODE 4312-52-P